DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, I-10 Pavement Rehabilitation Project in the County of Riverside, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before June 21, 2021. If the Federal law that authorizes judicial review of a claim provides a time period of less than 150 days for filing such claim, then that shorter time period still applies.

FOR FURTHER INFORMATION CONTACT: For Caltrans: Antonia Toledo, Senior Environmental Planner, California Department of Transportation-District 8, 464 W 4th Street, MS-820, San Bernardino, CA 92401. Office Hours: 8:00 a.m.-5:00 p.m., Pacific Standard Time, telephone, (909) 501-5741 or email Antonia.Toledo@dot.ca.gov. For FHWA: David Tedrick at (916) 498-5024 or email david.tedrick@dot.gov.

SUPPLEMENTARY INFORMATION: Effective July 1, 2007, the FHWA assigned, and Caltrans assumed, environmental responsibilities for this project pursuant to 23 U.S.C. 327. Notice is hereby given that Caltrans has taken final agency actions subject to 23 U.S.C. 139(l)(1) by issuing licenses, permits, and approvals for the following highway project in the State of California: Rehabilitation of the existing asphalt concrete (AC) pavement on the Interstate 10 from Post Mile (PM) R60.7 to PM R74.3. Rehabilitation activities include removal and replacement of existing inside and outside shoulders, guardrails, rumble strips, drainage inlets, dikes, and oversized drains. The project also includes widening of bridges and placement, repair, and installation of permanent desert tortoise fence. Grading will be limited to five feet outside the edge of shoulder, except at bridge locations. The project would also include the installation of electric vehicle charging stations at Cactus City Rest Area. The proposed project will also include the installation of a two-lane temporary detour in the existing median. Following construction, the eastbound detour lane would be converted to a general-purpose lane, and the eastbound outside lane would be designated as a truck climbing lane.

The actions by the Federal agencies, and the laws under which such actions were taken, are described in the Final Environmental Assessment (EA)/Finding of No Significant Impact (FONSI) for the project, approved on September 10, 2020, and in other documents in Caltrans' project records. The Final EA, FONSI and other project records are available by contacting Caltrans at the addresses provided above.

This notice applies to all Federal agency decisions as of the issuance date of this notice and all laws under which such actions were taken, including but not limited to:

1. National Environmental Policy Act of 1969, as amended, 42 U.S.C. 4331(b)(2)

2. Federal Highway Act of 1970, U.S.C. 772

3. Federal Clean Air Act, as amended

4. Clean Water Act of 1977 and 1987

5. Federal Water Pollution Control Act of 1972

6. Safe Drinking Water Act of 1944, as amended

7. Endangered Species Act of 1973

8. Executive Order 11990, Protection of Wetlands

9. Executive Order 13112, Invasive Species

10. Fish and Wildlife Coordination Act of 1934, as amended

11. Migratory Bird Treaty Act

12. Title VI of the Civil Rights Act of 1964, as amended

13. Executive Order 12898, Federal Actions to Address Environmental Justice in Minority and Low-Income Populations

14. National Historic Preservation Act of 1966, as amended

(Catalog of Federal Domestic Assistance Program Number 20.205, Highway Planning and Construction. The regulations implementing Executive Order 12372 regarding intergovernmental consultation on Federal programs and activities apply to this program.)

Authority: 23 U.S.C. 139(l)(1)

Issued on: January 13, 2021.
Rodney Whitfield,
Director, Financial Services, Federal Highway Administration, California Division.

[FR Doc. 2021-01143 Filed 1-19-21; 8:45 am]

BILLING CODE 4910-RY-P